DEPARTMENT OF ENERGY

Federal Energy Regulatory Commission

Combined Notice of Filings #1

Take notice that the Commission received the following electric corporate filings:

Docket Numbers: EC18-65-000.

Applicants: Franklin Resources, Inc.

Description: Request for Reauthorization and Extension of Blanket Authorizations Under Section 203 of the Federal Power Act. of Franklin Resources, Inc.

Filed Date: 3/8/18.

Accession Number: 20180308-5180.

Comments Due: 5 p.m. ET 3/29/18.

Docket Numbers: EC18-66-000.

Applicants: Florida Power & Light Company.

Description: Application for Authorization Under Section 203 of the Federal Power Act and Request for Expedited Action of Florida Power & Light Company.

Filed Date: 3/8/18.

Accession Number: 20180308-5181.

Comments Due: 5 p.m. ET 3/29/18.

Docket Numbers: EC18-67-000.

Applicants: Elk City II Wind, LLC, Elk City Renewables II, LLC.

Description: Application for Authorization Under Section 203 of the Federal Power Act and Request for Expedited Action of Elk City II Wind, LLC, et. al.

Filed Date: 3/8/18.

Accession Number: 20180308-5185.

Comments Due: 5 p.m. ET 3/29/18.

Take notice that the Commission received the following electric rate filings:

Docket Numbers: ER10-3028-003.

Applicants: Elk Hills Power, LLC.

Description: Notice of Non-Material Change in Status of Elk Hills Power, LLC.

Filed Date: 3/8/18.

Accession Number: 20180308-5178.

Comments Due: 5 p.m. ET 3/29/18.

Docket Numbers: ER17-2074-001; ER10-2538-008; ER14-1317-007.

Applicants: Burney Forest Products, A Joint Venture, Panoche Energy Center, LLC, Sunshine Gas Producers, LLC.

Description: Notice of Non-Material Change in Status of Burney Forest Products, A Joint Venture, et al.

Filed Date: 3/8/18.

Accession Number: 20180308-5190.

Comments Due: 5 p.m. ET 3/29/18.

Docket Numbers: ER18-980-000.

Applicants: PacifiCorp.

Description: Notice of Termination of LGIA Facilities Maintenance Service Agreement No. 580 of PacifiCorp.

Filed Date: 3/8/18.

Accession Number: 20180308-5114.

Comments Due: 5 p.m. ET 3/29/18.

Docket Numbers: ER18-981-000.

Applicants: Southern California Edison Company.

Description: Tariff Cancellation: Notices of Cancellation of IFA & Distrib Serv Agmt RCWMD to be effective 2/28/2018.

Filed Date: 3/8/18.

Accession Number: 20180308-5169.

Comments Due: 5 p.m. ET 3/29/18.

Docket Numbers: ER18-982-000.

Applicants: Midcontinent Independent System Operator, Inc.

Description: § 205(d) Rate Filing: 2018-03-09 SA 6510 MISO-Cleco Renewal SSR Agreement for Teche Unit No. 3 to be effective 4/1/2018.

Filed Date: 3/9/18.

Accession Number: 20180309-5025.

Comments Due: 5 p.m. ET 3/30/18.

Docket Numbers: ER18-983-000.

Applicants: Public Service Company of New Mexico.

Description: § 205(d) Rate Filing: First Revised Transmission Service Agreement 489 between PNM and El Cabo Wind to be effective 2/27/2018.

Filed Date: 3/9/18.

Accession Number: 20180309-5035.

Comments Due: 5 p.m. ET 3/30/18.

Docket Numbers: ER18-984-000.

Applicants: PJM Interconnection, L.L.C.

Description: § 205(d) Rate Filing: Original WMPA, SA No. 4953; Queue No. AC2-074 to be effective 2/21/2018.

Filed Date: 3/9/18.

Accession Number: 20180309-5072.

Comments Due: 5 p.m. ET 3/30/18.

Docket Numbers: ER18-985-000.

Applicants: Southwest Power Pool, Inc.

Description: § 205(d) Rate Filing: Tri-State Generation and Transmission Association Depreciation Rates to be effective 7/1/2018.

Filed Date: 3/9/18.

Accession Number: 20180309-5079.

Comments Due: 5 p.m. ET 3/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2018.
Nathaniel J. Davis, Sr.,
Deputy Secretary.

[FR Doc. 2018-05225 Filed 3-14-18; 8:45 am]

BILLING CODE 6717-01-P